DEPARTMENT OF ENERGY

Federal Energy Regulatory Commission

[Project No. 12796-004]

City of Wadsworth, Ohio; Notice of Availability of Environmental Assessment

January 23, 2015.

In accordance with the National Environmental Policy Act of 1969 and the Federal Energy Regulatory Commission's (Commission) regulations, 18 Code of Federal Regulations (CFR) Part 380 (Order No. 486, 52 Federal Register [FR] 47897), the Office of Energy Projects has reviewed the application for a major original license for the 50-megawatt Robert C. Byrd Hydroelectric Project (RC Byrd Project or project), located on the Ohio River at the U.S. Army Corps of Engineers' (Corps) Robert C. Byrd Locks and Dam (RC Byrd Locks and Dam), approximately 12.7 miles south of the confluence of the Ohio River and the Kanawha River, 9 miles south of the Town of Gallipolis, Gallia County, Ohio, and prepared a Final Environmental Assessment (FEA) for the project. The proposed project would occupy 7.6 acres of federal land administered by the Corps.

The FEA contains staff's analysis of the potential environmental impacts of the proposed project and concludes that licensing the proposed project, with appropriate environmental protective measures, would not constitute a major federal action that would significantly affect the quality of the human environment.

A copy of the FEA is available for review at the Commission in the Public Reference Room or may be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

For further information, contact Gaylord Hoisington by telephone at 202-502-6032 or by email at gaylord.hoisington@ferc.gov.

Kimberly D. Bose,
Secretary.

[FR Doc. 2015-01732 Filed 1-29-15; 8:45 am]

BILLING CODE 6717-01-P